DEPARTMENT OF HOMELAND SECURITY

U.S. Customs and Border Protection

Modification of the National Customs Automation Program (NCAP) Test Concerning the Automated Commercial Environment (ACE) Document Image System (DIS) Regarding Future Updates and New Method of Submission of Accepted Documents

AGENCY: U.S. Customs and Border Protection, Department of Homeland Security.

ACTION: General notice.

SUMMARY: This document announces U.S. Customs and Border Protection's (CBP's) plan to modify the National Customs Automation Program (NCAP) test concerning document imaging, known as the Document Image System (DIS) test. The DIS test allows Automated Commercial Environment (ACE) participants to submit electronic images of a specific set of CBP and Partner Government Agency (PGA) forms, documents, and supporting information to CBP via a CBP-approved Electronic Data Interchange (EDI).

This notice announces several changes to the DIS test. First, eligibility to participate in the test is being expanded to include anyone transmitting cargo release or entry summary information to ACE. Second, CBP has added forms to the list of forms and documents supported by the DIS test. Third, the list of eligible forms and documents will now be maintained on the CBP Web site. Fourth, all future additions and changes to the list of eligible forms and documents will be announced on the CBP Web site, rather than by Federal Register notice. Finally, the DIS test is being amended to permit participants to submit all DIS eligible forms and documents as attachments to email, in addition to the methods of transmission previously authorized. This notice provides DIS test details including commencement date for the modifications announced herein, eligibility, procedural and documentation requirements, and test development and evaluation methods.

DATES: The modifications of the DIS test made by this notice are effective on October 15, 2015. The test will continue until concluded by way of announcement in the Federal Register.

ADDRESSES: Comments concerning this notice and any aspect of the test may be submitted at any time during the test via email to Monica Crockett at monica.v.crockett@cbp.dhs.gov. In the subject line of your email, please indicate “Comment on Document Image System (DIS).”

FOR FURTHER INFORMATION CONTACT: For policy-related questions, contact Monica Crockett at monica.v.crockett@cbp.dhs.gov. For technical questions related to Automated Broker Interface (ABI) transmissions, contact your assigned client representative. Interested parties without an assigned client representative should direct their questions to Steven Zaccaro at steven.j.zaccaro@cbp.dhs.gov. Any partner government agency (PGA) interested in participating in DIS should contact Elizabeth McQueen at elizabeth.mcqueen@cbp.dhs.gov.

SUPPLEMENTARY INFORMATION:

Background

The National Customs Automation Program (NCAP) was established in Subtitle B of Title VI—Customs Modernization, in the North American Free Trade Agreement Implementation Act (Pub. L. 103-182, 107 Stat. 2057, 2170, December 8, 1993) (Customs Modernization Act) (19 U.S.C. 1411-14). Through NCAP, the initial thrust of customs modernization was on trade compliance and the development of the Automated Commercial Environment (ACE), the planned successor to the Automated Commercial System (ACS). ACE is an automated and electronic system for commercial trade processing which is intended to streamline business processes, facilitate growth in trade, ensure cargo security, and foster participation in global commerce, while ensuring compliance with U.S. laws and regulations and reducing costs for U.S. Customs and Border Protection (CBP) and all of its communities of interest.

The ability to meet these objectives depends on successfully modernizing CBP's business functions and the information technology that supports those functions. CBP's modernization efforts are accomplished through phased releases of ACE component functionality designed to introduce new functionality or to replace a specific legacy ACS function. Each release will begin with a test and will end with mandatory compliance with the new ACE feature and the retirement of the legacy ACS function. Each release builds on previous releases and sets the foundation for subsequent releases.

On April 6, 2012, CBP published a notice in the Federal Register announcing a NCAP test called the Document Image System (DIS) test. See 77 FR 20835. The DIS test notice allowed ACE participants to submit electronic images of a specific set of CBP and Partner Government Agency (PGA) forms and supporting information to CBP via a CBP-approved Electronic Data Interchange (EDI).

On July 23, 2013, CBP published a subsequent notice in the Federal Register announcing a second phase, Phase II, of the DIS test and modifications to both the DIS test and the ACE Cargo Release test (formerly known as the Simplified Entry test). That notice reduced the metadata elements required for each DIS transmission and allowed the submission of certain documents through DIS earlier in the importation process, i.e. at the time of manifest. In Phase II, CBP also expanded the pool of eligible participants to include software providers who merely transmit data electronically on behalf of ACE participating importers or brokers. Finally, in Phase II, CBP specified forms that were eligible to be transmitted via a CBP-approved EDI to support ACE Cargo Release filings (previously known as Simplified Entry filings). See 78 FR 44142.

On June 25, 2014, CBP published a notice in the Federal Register announcing a third phase, Phase III, of the DIS test and adding to the list of documents and forms supported by the DIS test. See 79 FR 36083. In addition to the new documents and forms, that notice listed all CBP and PGA forms and documents which the DIS test supported as of that date. On January 30, 2015, CBP published a notice modifying Phase III of the DIS test to permit importers and brokers participating in the DIS test to file DIS test-supported APHIS documents in Portable Document Format (PDF) file format, via email to docs@cbp.dhs.gov. See 80 FR 5126. The list of APHIS documents which may be sent in PDF file format is set forth in the January 30, 2015 notice.

For the convenience of the public, a chronological listing of Federal Register publications detailing ACE test developments is set forth below in Section VI, entitled, “Development of ACE Prototypes.”

The procedures, terms, conditions and rules set forth in the previous DIS notices remain in effect unless otherwise explicitly changed by this or subsequent notices published in the Federal Register.

Authorization for the Test

The Customs Modernization Act authorizes the Commissioner of CBP to conduct limited test programs or procedures designed to evaluate planned components of the NCAP. This test is authorized pursuant to section 101.9(b) of the CBP Regulations (19 CFR 101.9(b)) which provides for the testing of NCAP programs or procedures. See Treasury Decision (T.D.) 95-21, 60 FR 14211 (March 16, 1995).

Document Image System (DIS) Test Program

This notice announces Phase IV of the DIS test. Under the DIS test, parties who file entry or entry summaries in ACE are allowed to submit specified CBP and PGA forms and documents via a CBP-approved EDI. DIS capabilities will continue to be delivered in multiple phases. As PGA Message Sets are programmed into ACE, CBP envisions that the documentation filed in DIS will be significantly reduced to only those documents that continue to be paper based (e.g. foreign certificates).

The first phase of the DIS test enabled participating importers and brokers to transmit images of specified CBP and PGA forms and documents with supporting information via a CBP-approved EDI in an Extensible Markup Language (XML) format, in lieu of conventional paper methods. See 77 FR 20835 (April 6, 2012). In Phase II, CBP reduced the number of metadata elements required for each document and specified forms that were eligible to be submitted earlier, i.e., at the time of manifest, or transmitted via a CBP-approved EDI to support ACE Cargo Release filings (previously known as Simplified Entry filings). See 78 FR 44142 (July 23, 2013). Additionally, the pool of eligible participants was expanded to include software providers that merely transmitted electronic data received from filers for transmission to CBP. In Phase III, CBP added forms and documents to the list of documentation supported by the DIS test and provided alternative methods of transmission. See 79 FR 36083 (June 25, 2014). Phase III was further modified to allow transmission of limited documents via email. See 80 FR 5126 (January 30, 2015).

This notice announces Phase IV of the DIS test. In Phase IV, the eligibility requirements are modified to permit any filer transmitting cargo release or entry summary data, information, forms, or documents to use DIS. Phase IV also expands the list of documents eligible for submission under the DIS test. Because CBP frequently updates the list of forms and documents eligible to be transmitted using DIS, the complete list will be maintained on the CBP Web site, at the following address: http://www.cbp.gov/trade/ace/features under the Document Image System tab. CBP will no longer publish announcements in the Federal Register to notify ACE participants when new CBP or PGA forms may be submitted pursuant to the DIS test, or when DIS test-supported forms may be submitted via email. All future additions and changes to the list of forms and documents eligible to be transmitted under the DIS test will be announced on the CBP Web site. Finally, this notice announces that DIS eligible forms and documents may be submitted as attachments to an email as an alternative submission via DIS.

Test Participation

I. Eligibility Requirements

As announced in this notice, Phase IV of the DIS test alters the eligibility requirements for participation in the DIS test. Now, any filer transmitting cargo release or entry summary data, information, forms or documents to ACE pursuant to the Cargo Release (80 FR 16414), or Entry Summary, Accounts and Revenue (76 FR 37136) tests is eligible to use DIS. Such filers must use a software program that has completed ACE certification testing. Additionally, CBP is expanding the list of CBP- and PGA-approved forms and documents that may be submitted as part of the DIS test. All other eligibility criteria as specified in prior DIS test notices remain the same, to the extent they are not inconsistent with this notice.

II. Rules for Submitting Images in Document Image System (DIS)

The following rules apply to all participants involved in the DIS testing process:

• In Phase II of the DIS test, CBP indicated two categories of documents which could be transmitted through DIS: (1) Documents that require a request from CBP or a PGA prior to transmission; and (2) documents that may be transmitted without a prior request. Beginning with Phase III, the rules for submitting images through DIS were updated as follows: (1) If the document transmitted is required to obtain the release of merchandise, including a release certified from ACE entry summary, the document may be transmitted without a prior request from CBP or the PGA; and (2) if the document is transmitted in support of entry summary pursuant to a request from CBP or the PGA, the document may be transmitted. Only eligible documents and forms required for the release of merchandise or requested by CBP should be transmitted using DIS. ACE will acknowledge every successful DIS transmission. Any form or document submitted via DIS is an electronic copy of an original document or form and both the original and the imaged copy are subject to the recordkeeping requirements of 19 CFR part 163 and any applicable PGA recordkeeping requirements.

• Test participants may only transmit forms and documents that CBP has permitted to be transmitted under this test. See documents supported in Section III below. If CBP cannot accept the form, document or information electronically, the filer must file using paper.

• Every form or document transmitted through DIS must be legible and must be a complete, accurate, and unaltered copy of the original document.

III. Documents Supported in the Fourth Phase of the Test

The forms and documents listed in the first, second and third phases of the DIS test may continue to be transmitted using DIS. Upon the effective date of this notice, CBP is permitting additional forms and documents to be transmitted using DIS. For a complete list of forms and documents that may be submitted using DIS, please go to the Document Image System tab at: http://www.cbp.gov/trade/ace/features. To ensure the availability of the most up-to-date information regarding DIS-eligible forms, CBP will maintain the list of forms and documents on the Web page. The list is frequently updated as PGA functionality in ACE increases, and as more PGAs become operational in ACE. ACE participants should check the Web site on a regular basis to determine whether a particular form or document may be transmitted using DIS. As changes are made to the list of eligible forms, they will be announced on the CBP Web site and may also be announced via the Cargo Systems Messaging Service (CSMS). Therefore, CBP also recommends that trade members subscribe to CSMS to receive email notifications from CBP regarding important information posted to CBP.gov. For information about subscribing to CSMS, please go to: http:­//apps.cbp.gov/csms/csms.asp?display_page=1. The DIS test is limited to the forms listed on the Web site. Please note that not all forms referenced in the DIS Implementation Guidelines are currently eligible for the DIS test. The DIS Implementation Guidelines are available on CBP.gov at: http://www.cbp.gov/document/forms/dis-implementation-guide.

IV. Recordkeeping

Any form or document submitted via DIS is an electronic copy of an original document or form and both the original and the imaged copy are subject to the recordkeeping requirements of 19 CFR part 163 and any applicable PGA recordkeeping requirements. Original documents transmitted via this test must be retained under the general CBP recordkeeping requirements in 19 CFR part 163, and any PGA's recordkeeping requirements, and made available upon request by CBP or a PGA.

V. Technical Specifications

In Phase II, the DIS test reduced the number of metadata elements required for each document to only those necessary to identify the transmitter, the document preparer, the CBP request (if applicable), the document and description, and the associated transaction. Documents submitted in an XML format must be sent via secure File Transfer Protocol (FTP), Secure Web Services, or existing EDI Message Queue (MQ) interfaces. All responses back to test participants who submit using this format will also be sent in the form of an XML message. For additional information pertaining to technical specifications, please see the DIS Implementation Guidelines which can be accessed on CBP.gov at the following link: http://www.cbp.gov/document/forms/dis-implementation-guide.

This notice also announces that, in addition to the manner of transmission authorized in previous DIS test notices, test participants may send DIS authorized forms and documents as an attachment to an email. Test participants may, at their option, transmit any authorized forms and documents in XML format, as specified in prior DIS test notices, or as an attachment to an email, pursuant to this notice. Emails should be submitted as follows:

• Submit to docs@cbp.dhs.gov.

• The subject line should begin with CAT=GEN and be followed by either: The bill of lading number, the SCAC code, and the action requested (add, delete or replace), separated by semi-colons; or the entry number, the filer code, and the action requested (add, delete or replace), separated by semi-colons.

• The body of the email should contain the following information, separated by semi-colons: A point of contact and submitter email address, and the agency or agencies that should receive or review the information submitted.

• The name of the attachment should begin with an alphanumeric Document Code (Documents Codes may be found in the DIS Implementation Guidelines) and may be followed by whatever name the submitter wishes to use.

CBP prefers that attachments to emails use the Portable Document Format (PDF) file format; however, the following file formats are also allowed: Joint Photographic Experts Group (JPEG), Graphics Interchange Format (GIF), MS Word Documents and MS Excel Spreadsheets. The Tagged Image Format (TIF) file format is not allowed. Emails and their attachments cannot exceed 10 megabytes (MBs). If the 10 MB limit is insufficient, the email/attachment submission must be broken down into smaller submissions/files.

VI. Development of ACE Prototypes

A chronological listing of Federal Register publications detailing ACE test developments is set forth below.

• ACE Portal Accounts and Subsequent Revision Notices: 67 FR 21800 (May 1, 2002); 69 FR 5360 and 69 FR 5362 (February 4, 2004); 69 FR 54302 (September 8, 2004); 70 FR 5199 (February 1, 2005).

• ACE System of Records Notice: 71 FR 3109 (January 19, 2006).

• Terms/Conditions for Access to the ACE Portal and Subsequent Revisions: 72 FR 27632 (May 16, 2007); 73 FR 38464 (July 7, 2008).

• ACE Non-Portal Accounts and Related Notice: 70 FR 61466 (October 24, 2005); 71 FR 15756 (March 29, 2006).

• ACE Entry Summary, Accounts and Revenue (ESAR I) Capabilities: 72 FR 59105 (October 18, 2007).

• ACE Entry Summary, Accounts and Revenue (ESAR II) Capabilities: 73 FR 50337 (August 26, 2008); 74 FR 9826 (March 6, 2009).

• ACE Entry Summary, Accounts and Revenue (ESAR III) Capabilities: 74 FR 69129 (December 30, 2009).

• ACE Entry Summary, Accounts and Revenue (ESAR IV) Capabilities: 76 FR 37136 (June 24, 2011).

• Post-Entry Amendment (PEA) Processing Test: 76 FR 37136 (June 24, 2011).

• ACE Announcement of a New Start Date for the National Customs Automation Program Test of Automated Manifest Capabilities for Ocean and Rail Carriers: 76 FR 42721 (July 19, 2011).

• ACE Simplified Entry: 76 FR 69755 (November 9, 2011).

• National Customs Automation Program (NCAP) Tests Concerning Automated Commercial Environment (ACE) Document Image System (DIS): 77 FR 20835 (April 6, 2012).

• National Customs Automation Program (NCAP) Tests Concerning Automated Commercial Environment (ACE) Simplified Entry: Modification of Participant Selection Criteria and Application Process: 77 FR 48527 (August 14, 2012).

• Modification of NCAP Test Regarding Reconciliation for Filing Certain Post-Importation Preferential Tariff Treatment Claims under Certain FTAs: 78 FR 27984 (May 13, 2013).

• Modification of Two National Customs Automation Program (NCAP) Tests Concerning Automated Commercial Environment (ACE) Document Image System (DIS) and Simplified Entry (SE): 78 FR 44142 (July 23, 2013).

• Modification of Two National Customs Automation Program (NCAP) Tests Concerning Automated Commercial Environment (ACE) Document Image System (DIS) and Simplified Entry (SE); Correction: 78 FR 53466 (August 29, 2013).

• Modification of NCAP Test Concerning Automated Commercial Environment (ACE) Cargo Release (formerly known as Simplified Entry): 78 FR 66039 (November 4, 2013).

• Post-Summary Corrections to Entry Summaries Filed in ACE Pursuant to the ESAR IV Test: Modifications and Clarifications: 78 FR 69434 (November 19, 2013).

• National Customs Automation Program (NCAP) Test Concerning the Submission of Certain Data Required by the Environmental Protection Agency and the Food Safety and Inspection Service Using the Partner Government Agency Message Set Through the Automated Commercial Environment (ACE): 78 FR 75931 (December 13, 2013).

• Modification of National Customs Automation Program (NCAP) Test Concerning Automated Commercial Environment (ACE) Cargo Release for Ocean and Rail Carriers: 79 FR 6210 (February 3, 2014).

• Modification of National Customs Automation Program (NCAP) Test Concerning Automated Commercial Environment (ACE) Cargo Release to Allow Importers and Brokers to Certify From ACE Entry Summary: 79 FR 24744 (May 1, 2014).

• Modification of National Customs Automation Program (NCAP) Test Concerning Automated Commercial Environment (ACE) Cargo Release for Truck Carriers: 79 FR 25142 (May 2, 2014).

• Modification of National Customs Automation Program (NCAP) Test Concerning Automated Commercial Environment (ACE) Document Image System: 79 FR 36083 (June 25, 2014).

• Announcement of eBond Test: 79 FR 70881 (November 28, 2014).

• eBond Test Modifications and Clarifications: Continuous Bond Executed Prior to or Outside the eBond Test May Be Converted to an eBond by the Surety and Principal, Termination of an eBond by Filing Identification Number, and Email Address Correction: 80 FR 899 (January 7, 2015).

• Modification of National Customs Automation Program (NCAP) Test Concerning Automated Commercial Environment (ACE) Document Image System Relating to Animal and Plant Health Inspection Service (APHIS) Document Submissions: 80 FR 5126 (January 30, 2015).

• Modification of National Customs Automation Program (NCAP) Test Concerning the use of Partner Government Agency Message Set through the Automated Commercial Environment (ACE) for the Submission of Certain Data Required by the Environmental Protection Agency (EPA): 80 FR 6098 (February 4, 2015).

• Announcement of Modification of ACE Cargo Release Test to Permit the Combined Filing of Cargo Release and Importer Security Filing (ISF) Data: 80 FR 7487 (February 10, 2015).

• Modification of NCAP Test Concerning ACE Cargo Release for Type 03 Entries and Advanced Capabilities for Truck Carriers: 80 FR 16414 (March 27, 2015).

• Automated Commercial Environment (ACE) Export Manifest for Air Cargo Test: 80 FR 39790 (July 10, 2015).

• National Customs Automation Program (NCAP) Concerning Remote Location Filing Entry Procedures in the Automated Commercial Environment (ACE) and the Use of the Document Image System for the Submission of Invoices and the Use of eBonds for the Transmission of Single Transaction Bonds: 80 FR 40079 (July 13, 2015).

• Modification of National Customs Automation Program (NCAP) Test Concerning the Automated Commercial Environment (ACE) Partner Government Agency (PGA) Message Set Regarding Types of Transportation Modes and Certain Data Required by the National Highway Traffic Safety Administration (NHTSA): 80 FR 47938 (August 10, 2015).

• Automated Commercial Environment (ACE) Export Manifest for Vessel Cargo Test: 80 FR 50644 (August 20, 2015).

• Modification of National Customs Automation Program (NCAP) Test Concerning the Submission of Certain Data Required by the Food and Drug Administration (FDA) Using the Partner Government Agency Message Set through the Automated Commercial Environment (ACE): 80 FR 52051 (August 27, 2015).

Dated: October 8, 2015.
Brenda B. Smith,
Assistant Commissioner Office of International Trade.

[FR Doc. 2015-26213 Filed 10-14-15; 8:45 am]

BILLING CODE 9111-14-P